DEPARTMENT OF LABOR

Bureau of Labor Statistics

Proposed collection, comment request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed new collection of the “Occupational Requirements Survey.” A copy of the proposed information collection request (ICR) can be obtained by contacting the individual listed below in the Addresses section of this notice.

DATES: Written comments must be submitted to the office listed in the Addresses section of this notice on or before April 20, 2015.

ADDRESSES: Send comments to Nora Kincaid, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Nora Kincaid, BLS Clearance Officer, at 202-691-7628 (this is not a toll free number). (See Addresses section.)

SUPPLEMENTARY INFORMATION:

I. Background

The Occupational Requirements Survey (ORS) is a nationwide survey that the Bureau of Labor Statistics (BLS) will conduct at the request of the Social Security Administration (SSA). The first three years of data collection and capture for the ORS will start in 2015 and end in mid-2018.

Estimates produced from the data collected by the ORS will be used by the SSA to update occupational requirements data in administering the Social Security Disability Insurance (SSDI) and Supplemental Security Income (SSI) programs.

The new ORS occupational information will allow SSA adjudicators to clearly associate the assessment of a claimant's physical and mental functional capacity and vocational profile with work requirements. BLS will compute percentages of workers with various characteristics, such as skill and strength level. SSA will use this information to provide statistical support for the medical-vocational rules used at step 5 of sequential evaluation regarding the number of unskilled jobs that exist at each level of exertion in the national economy.

The Social Security Administration, Members of Congress, and representatives of the disability community have all identified collection of updated information on the requirements of work in today's economy as crucial to the equitable and efficient operation of the Social Security Disability (SSDI) program. The information currently available is more than 20 years old.

The ORS will collect data from a sample of employers. These requirements of work data will consist of information about the duties, responsibilities, and job tasks for a sample of occupations for each sampled employer.

In October 2014, BLS commenced the collection of a six-month ORS Pre-production test. The goal of the Pre-production test is to test all survey activities by mirroring production procedures, processes and protocols as closely as possible. All ORS data elements planned for Production are being collected during the test.

Production activities mirrored in the Pre-production test include selecting ORS samples, training staff, conducting calibration exercises, collecting the data, conducting all review activities, calculating estimates and standard errors, validating the estimates, and applying publication criteria to the computed estimates. Data from this test that meets BLS publication criteria will be provided to SSA and released in a research report for the public. However, due to the sample size of this test, the BLS only expects to be able to compute and release data for a very limited number of occupations or occupational groups, and these data will not be suitable for SSA disability determinations.

BLS received comments on both the March 24, 2014, 60 day Federal Register (79 FR 16058) and July 23, 2014, 30 day Federal Register notice (79 FR 42829) for the six-month ORS Pre-production test. To assure that BLS is addressing all of these comments thoroughly, BLS consulted with an outside subject matter expert to gain a better understanding of occupational requirements data. The consultant reviewed and analyzed literature related to the reliability and validity of occupational requirements data and provided the BLS with recommendations for testing reliability and validity. Given the recommendations from the subject matter expert, BLS plans to begin a review initiative in FY 2015 including the development of a methodological guide, evaluation of benchmarks for data collection, and future testing of inter-rater reliability. These recommendations, as well as the previous refinements of the collection procedures, the data review process, and the validation techniques developed to date will ensure ORS produces quality occupational data in the areas of vocational preparation, mental-cognitive and physical requirements, and environmental conditions as the BLS moves into full production.

II. Current Action

Office of Management and Budget clearance is being sought for the Occupational Requirements Survey.

The following data will be collected during the ORS as defined by the SSA's disability program and are data that the NCS does not currently collect:

(1) An indicator of “time to proficiency,” defined as the amount of time required by a typical worker to learn the techniques, acquire the information, and develop the facility needed for average job performance, comparable to the Specific Vocational Preparation (SVP) used in the Dictionary of Occupational Titles (DOT).

(2) Physical Demand characteristics/factors of occupations, measured in such a way to support SSA disability determination needs, comparable to measures in Appendix C of the Selected Characteristics of Occupations (SCO).

(3) Environmental Conditions, measured in such a way to support SSA disability determination needs, comparable to measures in Appendix D of the SCO.

(4) Data elements that describe the mental and cognitive demands of work.

(5) Occupational Task lists data as identified in the Employment and Training Administration's (ETA's) O*NET Program in order to validate the key tasks common across establishments and identify other tasks commonly performed.

Some data needed for ORS are currently collected by BLS's National Compensation Survey (NCS). The ORS data will be collected with the same methodology as data collected for NCS. The general establishment data collected on establishments in the survey samples will be the same for ORS and NCS. The Probability Selection of Occupations (PSO) methodology—a disaggregating technique for selecting individual items from a large number of items—will also be used by both ORS and NCS. For ORS and NCS, these items are employees, occupations, divisions, or sub-units depending upon the application of the sampling procedure being used. The work level of jobs data (factor evaluation method with four factors to evaluate the work level) methodology will also be used in the ORS survey, as it is currently in NCS.

BLS will disseminate the data from the ORS on the BLS public Web site (www.bls.gov/ors).

The ORS will have two collection forms (having unique private industry and government collection forms for each). For those sampled establishments that are in the current National Compensation Survey (NCS), ORS will use NCS data and forms for those data elements that overlap.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New Collection.

Agency: Bureau of Labor Statistics.

Title: Occupational Requirements Survey.

OMB Number: 1220-NEW.

Affected Public: Businesses or other for-profit; not-for-profit institutions; and State, local, and tribal government.

Total Respondents: 10,402 (three-year average).

Total Burden Cost (capital/startup): $0.

Total Burden Cost (operating/maintenance): $0.

All figures in the table below are based on a three-year average. The total respondents in the table are greater than the figure shown above because many respondents are asked to provide information relating to more than one form.

Form | Total respondents per form | Frequency | Total annual responses * | Minutes for the predominant form use | Total hours *
Establishment, work level, and schedule collection form (ORS Form 15-1G ) | 1,366 | 1 | 1,366 | 54 | 1,229
Establishment, work level, and schedule collection form (ORS Form 15-1P ) | 8,246 | 1 | 8,246 | 54 | 7,421
Occupation requirements (ORS Form 4 PPD-4G) | 1,507 | 1 | 1,507 | 66 | 1,658
Occupation requirements (ORS Form 4 PPD-4P) | 8,545 | 1 | 8,545 | 66 | 9,400
Collection not tied to a specific form (Quality Assurance, Testing) | 853 | 1 | 853 |  | 476
TOTALS | 20,516 |  | 20,516 |  | 20,184
* The sum of individual items may not equal totals due to rounding.

Comments submitted in response to this notice will be summarized and/or included in the request for Office of Management and Budget approval of the information collection request; they also will become a matter of public record.

Signed at Washington, DC, this 12th day of February 2015.
Eric Molina,
Acting Chief, Division of Management Systems, Bureau of Labor Statistics.

[FR Doc. 2015-03291 Filed 2-17-15; 8:45 am]

BILLING CODE 4510-24-P